DEPARTMENT OF THE INTERIOR

Bureau of Land Management

[LLUT030000-L17110000-PH0000-24-1A]

Notice of Grand Staircase-Escalante National Monument Advisory Committee Meeting

AGENCY: Bureau of Land Management, Interior.

ACTION: Notice.

SUMMARY: In accordance with the Federal Land Policy and Management Act (FLPMA) and the Federal Advisory Committee Act of 1972 (FACA), the Department of the Interior, Bureau of Land Management (BLM), Grand Staircase-Escalante National Monument Advisory Committee (GSENMAC) will meet as indicated below.

DATES: The GSENMAC will meet Tuesday, November 15, 2011, (11 a.m.-6 p.m.) and Wednesday, November 16, 2011, (8 a.m.-1 p.m.) in Kanab, Utah.

ADDRESSES: The Committee will meet at GSENM Headquarters, 190 East Center Street, Kanab, Utah.

FOR FURTHER INFORMATION CONTACT: Larry Crutchfield, Public Affairs Officer, Grand Staircase-Escalante National Monument, Bureau of Land Management, 190 East Center Street, Kanab, Utah, 84741; phone (435) 644-4310.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member GSENMAC was appointed by the Secretary of Interior on August 2, 2011, pursuant to the Monument Management Plan, the Federal Land Policy and Management Act of 1976 (FLPMA), and the Federal Advisory Committee Act of 1972 (FACA). As specified in the Monument Management Plan, the GSENMAC will have these primary tasks: (1) Review evaluation reports produced by the Management Science Team and make recommendations on protocols and projects to meet overall objectives; (2) Review appropriate research proposals and make recommendations on project necessity and validity; (3) Make recommendations regarding allocation of research funds through review of research and project proposals as well as needs identified through the evaluation process above; and, (4) Could be consulted on issues such as protocols for specific projects.

Agenda topics to be discussed by the GSENMAC include operating procedures, establishing meeting guides, Charter, roles and responsibilities, Federal Advisory Committee Act, election of officers, Federal travel regulations, forming of subcommittees, facilitation needs, and future meeting dates.

The entire meeting is open to the public. Members of the public are welcome to address the GSENMAC at 5 p.m., local time on November 15, 2011. Depending on the number of persons wishing to speak, a time limit could be established. Interested persons may make oral statements to the GSENMAC during this time or written statements may be submitted for the GSENMAC's consideration. Written statements can be sent to: Grand Staircase-Escalante National Monument, Attn: Larry Crutchfield, 190 E. Center Street, Kanab, UT 84741. Information to be distributed to the GSENMAC is requested 10 days prior to the start of the GSENMAC meeting.

All meetings are open to the public; however, transportation, lodging, and meals are the responsibility of the participating public.

Dated: October 4, 2011.
Shelley J. Smith,
Acting State Director.

[FR Doc. 2011-26278 Filed 10-11-11; 8:45 am]

BILLING CODE 4310-DQ-P